ENVIRONMENTAL PROTECTION AGENCY

[EPA-HQ-OAR-2008-0353; FRL-8723-6]

Agency Information Collection Activities; Submission to OMB for Review and Approval; Comment Request; Motor Vehicle Emissions and Fuel Economy Compliance: Light Duty Vehicles, Light Duty Trucks, and Highway Motorcycles (Renewal); EPA ICR No. 0783.54, OMB Control No. 2060-0104

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 31, 2008.

ADDRESSES: Submit your comments, referencing Docket ID No. EPA-HQ-OAR-2008-0353, to (1) EPA online using http://www.regulations.gov (our preferred method), or by mail to: EPA Docket Center, Environmental Protection Agency, Air and Radiation Docket, Mailcode 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Lynn Sohacki, Compliance and Innovative Strategies Division, Office of Transportation and Air Quality, Environmental Protection Agency, 2000 Traverwood, Ann Arbor, Michigan, 48105; telephone number: 734-214-4851; fax number: 734-214-4869; e-mail address: sohacki.lynn@epa.gov.

SUPPLEMENTARY INFORMATION: EPA has submitted the following ICR to OMB for review and approval according to the procedures prescribed in 5 CFR 1320.12. On May 20, 2008 (73 FR 29133), EPA sought comments on this ICR pursuant to 5 CFR 1320.8(d). EPA received no comments. Any additional comments on this ICR should be submitted to EPA and OMB within 30 days of this notice.

EPA has established a public docket for this ICR under Docket ID No. EPA-HQ-OAR-2008-0353, which is available for online viewing at http://www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Motor Vehicle Emissions and Fuel Economy Compliance: Light Duty Vehicles, Light Duty Trucks, and Highway Motorcycles (Renewal)

ICR numbers: EPA ICR No. 0783.54, OMB Control No. 2060-0104

ICR Status: This ICR is scheduled to expire on November 30, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Under the Clean Air Act (42 U.S.C. 7521 et seq.), manufacturers of light duty vehicles (passenger cars), light trucks, and highway motorcycles must have a certificate of conformity issued by EPA covering any vehicle they intend to offer for sale. In addition, light duty vehicles and light truck manufacturers must also submit fuel economy information and reports required by the Energy Policy and Conservation Act (49 U.S.C. 32901 et seq.). EPA reviews vehicle information and test data to determine if the vehicle design conforms to applicable requirements and to verify that the required testing has been performed. After certification, features of these programs covered by this ICR include the Manufacturers' In-Use Testing Program for light-duty vehicles, and submission of Defect Reports and Voluntary Emissions Recall Reports for light-duty vehicles and highway motorcycles to EPA. Until a vehicle is available for purchase, information is confidential. Some proprietary information is permanently confidential.

Burden Statement: The annual public reporting and recordkeeping burden for this collection of information is estimated to average 335 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: manufacturers of light duty vehicles, light duty trucks, and highway motorcycles for sale in the United States.

Estimated Number of Respondents: 160.

Frequency of Response: yearly and occasionally.

Estimated Total Annual Hour Burden: 645,259.

Estimated Total Annual Cost: $57,764,535, which includes $5,348,350 in capital and start-up costs, $14,364,735 in O&M costs, and $38,051,450 in labor costs.

Changes in the Estimates: There is a decrease of 2,685 hours in the total estimated burden currently identified in the OMB Inventory of Approved ICR Burdens. This change is the result of many corrections, with a moderate increase in light-duty emissions hours and smaller increases in the fuel economy, motorcycle, and defect-reporting programs offset by a moderate decrease in IUVP hours reflecting efficiencies in that program due to the completion of EPA audits of manufacturer IUVP procedures and the maturing of the program, which was a startup at the time of the last renewal.

Dated: September 25, 2008.
Sara Hisel-McCoy,
Director, Collection Strategies Division.

[FR Doc. E8-23146 Filed 9-30-08; 8:45 am]

BILLING CODE 6560-50-P